DEPARTMENT OF ENERGY

Federal Energy Regulatory Commission

[Docket No. AD10-12-001]

Increasing Market and Planning Efficiency Through Improved Software; Notice of Technical Conference: Increasing Real-Time and Day-Ahead Market Efficiency Through Improved Software

Take notice that Commission staff will convene a technical conference on June 28-30, 2011, from 8:30 a.m. to 4:30 p.m., to discuss opportunities for increasing real-time and day-ahead market efficiency through improved software.

This conference will bring together diverse experts from ISOs/RTOs, non-market utilities, the software industry, government, research centers and academia for the purposes of stimulating discussion and sharing of information about the technical aspects of these issues and identifying fruitful avenues for research. This conference is intended to build on the discussions initiated in the Commission's June 2010 staff technical conferences on increasing market and planning efficiency through improved software. As a result of the June 2010 conferences and progress over the past year, Commission staff is focusing in this conference on the following specific topics.

On June 28-29, presentations will focus on improving performance of day-ahead markets, including general unit-commitment software and algorithm advancements, asset flexibility, potential improvements to pricing, efficient modeling of uncertainty, optimal transmission switching, and large-scale test problem development, as well as other related topics.

On June 29-30, presentations will focus on improving performance of real-time optimal power flow modeling, including general real-time optimal power flow software and algorithm advancements, adaptive transmission ratings and generator modeling, full or partial AC optimal power flow models, preventive and corrective resource and transmission dispatch, improved regulation services, dynamic line ratings, and large-scale test problem development, as well as other related topics.

Through these presentations, Commission staff seeks to explore advancements related to these technologies, the potential benefits or costs associated with these advancements, and how such advancements may be incorporated into power market operations.

The technical conference will be held in the Commission Meeting Room at the Federal Energy Regulatory Commission, 888 First Street, NE., Washington, DC 20426. All interested participants are invited to attend, and participants with ideas for relevant presentations are invited to nominate themselves to speak at the conference.

Speaker nominations must be submitted on or before May 26, 2011 through the Commission's Web site ¹ by providing the proposed speaker's contact information along with a title and abstract of the proposed presentation. Proposed presentations should be directly or closely related to the topics discussed above. Speakers and presentations will be selected to ensure relevant topics and to accommodate time constraints.

¹ The speaker nomination form is located at http://www.ferc.gov/whats-new/registration/improve-soft-06-28-speaker-form.asp.

Although registration is not required for general attendance, we encourage those planning to attend the conference to register through the Commission's Web site.² We will provide printed nametags for those who register on or before June 23, 2011.

² The registration form is located at http://www.ferc.gov/whats-new/registration/improve-soft-06-28-form.asp.

A detailed agenda with the list of and times for the selected speakers will be published on the Commission's Increasing Market and Planning Efficiency Web site ³ by May 31, 2011. Following the conferences, a comment date will be set for the filing of post-conference comments.

³ http://www.ferc.gov/industries/electric/indus-act/market-planning.asp.

There is an “eSubscription” link on the Web site that enables subscribers to receive e-mail notification when a document is added to a subscribed docket(s). For assistance with any FERC Online service, please e-mail FERCOnlineSupport@ferc.gov, or call (866) 208-3676 (toll free). For TTY, call (202) 502-8659.

A free webcast of this event will be available through the FERC Web site. Webcast viewers will not be able to participate during the technical conference. Anyone with Internet access interested in viewing the webcast of this conference can do so by navigating to Calendar of Events at http://www.ferc.gov. The events will contain a link to the Webcast. The Capitol Connection provides technical support for the webcasts and offers the option of listening to the conferences via phone-bridge for a fee. If you have any questions, visit http://www.CapitolConnection.org or call (703) 993-3100.

FERC conferences are accessible under section 508 of the Rehabilitation Act of 1973. For accessibility accommodations please send an e-mail to accessibility@ferc.gov or call toll free (866) 208-3372 (voice) or (202) 502-8659 (TTY), or send a fax to (202) 208-2106 with the required accommodations.

For further information about these conferences, please contact:

Sarah McKinley (Logistical Information), Office of External Affairs, (202) 502-8004, Sarah.McKinley@ferc.gov.

Eric Krall (Technical Information), Office of Energy Policy and Innovation, (202) 502-6214, Eric.Krall@ferc.gov.

Tom Dautel (Technical Information), Office of Energy Policy and Innovation, (202) 502-6196, Thomas.Dautel@ferc.gov.

Dated: May 6, 2011.
Kimberly D. Bose,
Secretary.

[FR Doc. 2011-11739 Filed 5-12-11; 8:45 am]

BILLING CODE 6717-01-P